DEPARTMENT OF HEALTH AND HUMAN SERVICES

Administration for Children and Families

Submission for OMB Review; Comment Request; Healthy Marriage and Responsible Fatherhood Performance Measures and Additional Data Collection (New Collection)

AGENCY: Office of Planning, Research, and Evaluation, Administration for Children and Families, HHS.

ACTION: Request for public comment.

SUMMARY: The Administration for Children and Families (ACF), Office of Family Assistance (OFA) has had administrative responsibility for federal funding of programs that strengthen families through healthy marriage and relationship education and responsible fatherhood programming since 2006, through the Healthy Marriage (HM) and Responsible Fatherhood (RF) Grant Programs. ACF required the 2015 cohort of HMRF grantees—which received 5-year grants in September 2015—to collect and report performance measures about program operations, services, and clients served (OMB #0970-0460). A performance measures data collection system called nFORM (Information, Family Outcomes, Reporting, and Management) was implemented with the 2015 cohort to improve the efficiency of data collection and reporting and the quality of data. This system allows for streamlined and standardized submission of grantee performance data through regular progress reports and supports grantee-led and federal research projects. ACF will continue performance measure and other data collection activities for the HMRF grant program with a new cohort of grantees who received 5-year awards in September 2020. ACF is requesting comment on a new data collection to support these activities with the 2020 HMRF grantee cohort. ACF has made changes to the previous cohort's data collection instruments and performance reports for use in the new cohort. This new grantee cohort is expected to begin collecting performance measure data and reporting to ACF in April 2021.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: ACF proposes to collect a set of performance measures from all HMRF grantees. These measures collect standardized information in the following areas:

• Applicant characteristics;

• Program operations;

• Service delivery; and

• Participant outcomes:

○ Entrance survey, with five versions: (1) HM Program Entrance Survey for Adult-Focused Programs; (2) HM Program Entrance Survey for Youth-Focused Programs; (3) RF Program Entrance Survey for Community-Based Fathers; (4) RF Program Entrance Survey for Community-Based Mothers; and (5) RF Program Entrance Survey for Reentering Fathers.

○ Exit survey, with five versions: (1) HM Program Exit Survey for Adult-Focused Programs; (2) HM Program Exit Survey for Youth-Focused Programs; (3) RF Program Exit Survey for Community-Based Fathers; (4) RF Program Exit Survey for Community-Based Mothers; and (5) RF Program Exit Survey for Reentering Fathers.

The measures used by the 2015 grantee cohort were developed in 2014 after extensive review of the research literature and grantees' past measures. The performance measures, data collection instruments, and data collection system were revised in 2020 based on a targeted analysis of existing measures, feedback from key stakeholders, and discussions with ACF staff and the 2015 cohort of grantees. ACF required the 2015 cohort of grantees to submit data on these standardized measures on a quarterly basis and proposes the same requirement for the 2020 cohort. In addition to the performance measures mentioned above, ACF proposes to repeat collection for these data submissions:

• Semi-annual Performance Progress Report (PPR), with two versions: (1) Performance Progress Report for HM Programs, and (2) Performance Progress Report for RF Programs; and

• Quarterly Performance Report (QPR), with two versions: (1) Quarterly Performance Progress Report for HM Programs, and (2) Quarterly Performance Progress Report for RF Programs.

Grantees in the new cohort will also be required to engage in continuous quality improvement (CQI) planning and implementation using a proposed CQI plan template developed by ACF. The estimated burden for completing and updating this template is included in the table below.

Respondents: Respondents include HM and RF grantee staff and program applicants and participants (participants are called “clients”).

Annual Burden Estimates
Instrument | Respondent | Number of respondents (total over request period) | Number of responses per respondent (total over request period) | Average burden per response (in hours) | Total burden (in hours) | Annual burden (in hours)
1: Applicant Characteristics | Program applicants | 273,840 | 1 | 0.25 | 68,460.0 | 22,820.0
| Program staff | 408 | 672 | 0.10 | 27,417.6 | 9,139.2
2: Program Operations | Program staff | 136 | 12 | 0.32 | 522.24 | 174.08
3: Service Delivery Data | Program staff | 2,040 | 126 | 0.50 | 128,520.0 | 42,840.0
4: Entrance and Exit Surveys | Program clients (entrance) | 257,409 | 1 | 0.42 | 108,111.78 | 36,037.26
| Program clients (exit) | 169,965 | 1 | 0.42 | 71,385.3 | 23,795.1
| Program staff (entrance and exit on paper) | 32 | 3,506 | 0.10 | 11,219.2 | 3,739.73
5: Semi-annual Performance Progress Report (PPR) | Program staff | 136 | 6 | 3 | 2,448.0 | 816.0
6: Quarterly Performance Report (QPR) | Program staff | 136 | 6 | 1 | 816.0 | 272.0
7: CQI Plan | Program staff | 136 | 3 | 4 | 1,632 | 544.0

Estimated Total Annual Burden Hours: 140,177.37.

Authority: Sec. 403. [42 U.S.C. 603].

Mary B. Jones,
ACF/OPRE Certifying Officer.

[FR Doc. 2021-04162 Filed 2-26-21; 8:45 am]

BILLING CODE 4184-73-P